DEPARTMENT OF EDUCATION

[Docket No.: ED-2025-SCC-0015]

Agency Information Collection Activities; Submission to the Office of Management and Budget for Review and Approval; Comment Request; Income Driven Repayment Plan Request for the William D. Ford Federal Direct Loans and Federal Family Education Loan Programs

AGENCY: Department of Education (ED).

ACTION: Notice.

SUMMARY: In accordance with the Paperwork Reduction Act (PRA) of 1995, the Department is proposing a revision of a currently approved information collection request (ICR).

DATES: Interested persons are invited to submit comments on or before July 30, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carolyn Rose, (202) 453-5967.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Income Driven Repayment Plan Request for the William D. Ford Federal Direct Loans and Federal Family Education Loan Programs.

OMB Control Number: 1845-0102.

Type of Review: Revision of a currently approved ICR.

Respondents/Affected Public: Individuals or Households.

Total Estimated Number of Annual Responses: 9,500,000.

Total Estimated Number of Annual Burden Hours: 3,135,000.

Abstract: The Department of Education (Department) is requesting an emergency clearance for this revision of the information collection, 1845-0102. Additionally, we are requesting that the full clearance package be filed at the same time and that the Department will initiate the 60-day public comment period upon notification of emergency approval.

Section 493C of the Higher Education Act of 1965, as amended (the HEA), authorizes the Income-Based Repayment (IBR) Plan for borrowers who obtain student loans through the Federal Family Education Loan (FFEL) Program and William D. Ford Federal Direct Loan (Direct Loan) Program. Section 455(d) of the HEA authorizes income-contingent repayment plans for borrowers who obtain student loans through the Direct Loan Program. The regulations that govern the IBR plan are in 34 CFR 682.215 and 685.221. The regulations that govern the income-contingent repayment plans are in 34 CFR 685.209. There are two income-contingent repayment plans: the Pay As You Earn (PAYE) Plan, and the Income-Contingent Repayment (ICR) Plan. These plans are collectively referred to as Income Driven Repayment (IDR) plans. In 2021, the Secretary initiated a negotiated rulemaking process to create a new IDR plan. As a result of these negotiations, a final Rule was published July 10, 2023, introducing the Saving on an Affordable Education (SAVE) Plan as a replacement for the REPAYE Plan and making additional changes to all IDR plans to make them more consistent. An injunction was initially filed on August 9, that prevented the implementation of the provisions specific to the SAVE Plan and on February 18, 2025, the injunction was expanded to enjoin the entirety of the Final Rule that went into effect July 1, 2024, which included provisions that had already been implemented related to the other IDR plans.

Under the statute, a borrower who wishes to repay under an Income Contingent or Income Based repayment plan must annually provide their Adjusted Gross Income (AGI) reported to the Internal Revenue Service (IRS). A borrower must also annually certify their family size.

If a borrower's AGI is not available, or if the borrower believes that their current AGI does not reasonably reflect their current income, regulations allow that they may provide alternative documentation of income for purposes of determining whether they (1) qualify for the repayment plan requested, (2) qualify to continue making income-driven payments, and (3) calculate their monthly payment amount.

The Department is updating the IDR Request Form that is used by a borrower to enroll, recertify, or change their IDR plan to support the provisions identified by the court injunction issued February 18, 2025. Specifically, the form is being updated to remove the SAVE plan as an option for borrowers to select and remove the other early-implemented components of the Final Rule that apply to the other IDR plans (i.e., revert the definition of family size to the pre-July 1, 2024, definition for all IDR plans and remove references to interest subsidy during repayment), additional updates to improve clarity and the borrower experience as a result of these changes have also been made.

Brian Fu,
Program and Management Analyst, Office of the Chief Data Officer, Office of Planning, Evaluation, and Policy Development.

[FR Doc. 2025-12005 Filed 6-27-25; 8:45 am]

BILLING CODE 4000-01-P